DEPARTMENT OF HEALTH AND HUMAN SERVICES

Food and Drug Administration

[Docket No. FDA-2023-N-2850]

Prescription Drug User Fee Rates for Fiscal Year 2024; Correction

AGENCY: Food and Drug Administration, HHS.

ACTION: Notice; correction.

SUMMARY: The Food and Drug Administration is correcting a notice entitled “Prescription Drug User Fee Rates for Fiscal Year 2024” that appeared in the Federal Register of July 28, 2023. The document announced the rates for prescription drug user fees for fiscal year 2024. The document was published with an incorrect value in a table. This document corrects that error.

FOR FURTHER INFORMATION CONTACT: Lisa Granger, Office of Policy, Legislation, and International Affairs, Food and Drug Administration, 301-796-9115, Lisa.Granger@fda.hhs.gov.

SUPPLEMENTARY INFORMATION: In the Federal Register of July 28, 2023 (88 FR 48881), in FR Doc. 2023-15911, the following correction is made:

On page 48883, in section II.C., table 4, “CDER Actual FY 2022 Workload Volumes and Predicted FY 2024 Workload Volumes,” in the third column (“FY 2024 predictions”), fourth row (“NDA/BLA Original”), “1,136” is corrected to read “136.”

Dated: July 31, 2023.
Lauren K. Roth,
Associate Commissioner for Policy.

[FR Doc. 2023-16575 Filed 8-2-23; 8:45 am]

BILLING CODE 4164-01-P